DEPARTMENT OF TRANSPORTATION

Federal Aviation Administration

Public Notice for a Change in Use of Aeronautical Property at Westerly State Airport, Westerly, RI

AGENCY: Federal Aviation Administration (FAA), DOT.

ACTION: Request for public comments.

SUMMARY: The FAA is requesting public comment on the Rhode Island Airport Corporation's request to change a portion (2.8 acres) of Airport property from aeronautical use to non-aeronautical use. The property is located on Airport Road in Westerly, Rhode Island and identified as a portion of Lot 19, Plat 108. Upon disposition the property will be used by the Town of Westerly as a police station. There were no federal funds used for the acquisition of the parcel.

The disposition of proceeds from the disposal of airport property will be in accordance with FAA's Policy and Procedures Concerning the Use of Airport Revenue, published in the Federal Register on February 16, 1999.

DATES: Comments must be received on or before July 14, 2006.

ADDRESSES: Documents are available for review by appointment by contacting Mr. David Cloutier, Assistant Vice President, Rhode Island Airport Corporation at T.F. Green State Airport, 2000 Post Road, Warwick, Rhode Island, Telephone 401-737-4000, Ext. 246 or by contacting Donna R. Witte, Federal Aviation Administration, 16 New England Executive Park, Burlington, Massachusetts, Telephone 781-238-7624.

FOR FURTHER INFORMATION CONTACT: Donna R. Witte at the Federal Aviation Administration, 12 New England Executive Park, Burlington, Massachusetts 01803, Telephone 781-238-7624.

SUPPLEMENTARY INFORMATION: Section 125 of The Wendell H. Ford Aviation Investment and Reform Act for the 21st Century (AIR 21) requires the FAA to provide an opportunity for public notice and comment to the “waiver” or “modification” of a sponsor's Federal obligation to use certain airport property for aeronautical purposes.

Issued in Burlington, Massachusetts, on May 30, 2006.
LaVerne F. Reid,
Manager, Airports Division, New England Region.

[FR Doc. 06-5367 Filed 6-13-06; 8:45 am]

BILLING CODE 4910-13-M